DEPARTMENT OF LABOR

Occupational Safety and Health Administration

[Docket No. ICR-1218-0221 (2002)]

Crawler, Locomotive, and Truck Cranes Standard; Extension of the Office of Management and Budget's (OMB) Approval of Information-Collection (Paperwork) Requirements

AGENCY: Occupational Safety and Health Administration (OSHA), Labor.

ACTION: Request for comment.

SUMMARY: OSHA solicits comment concerning its proposal to extend OMB approval of the information-collection requirements specified by its Crawler, Locomotive, and Truck Cranes Standard (29 CFR 1910.180). The paperwork provisions of this Standard specify requirements for developing, maintaining, and disclosing inspection records for cranes and ropes, as well as disclosing written reports of rated load tests. The purpose of each of these requirements is to prevent employees from using unsafe cranes and ropes, thereby reducing their risk of death or serious injury caused by a crane or rope failure during material handling.

DATES: Submit written comments on or before August 30, 2002.

ADDRESSES: Submit written comments to the Docket Office, Docket No. ICR-1218-0221 (2002), OSHA, U.S. Department of Labor, Room N-2625, 200 Constitution Avenue, NW., Washington, DC 20210; telephone (202) 693-2350. Commenters may transmit written comments on 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2044. A copy of the Agency's Information-Collection Request (ICR) supporting the need for the information collections specified by the Crawler, Locomotive, and Truck Cranes Standard is available for inspection and copying in the Docket Office, or by requesting a copy from Todd Owens at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The Crawler, Locomotive, and Truck Cranes Standard (i.e., “the Standard”) specifies several paperwork requirements. The following sections describe who uses the information collected under each requirement, as well as how they use it.

• Inspection Records (paragraph (d)(6)). This paragraph specifies that employers must prepare a written record to certify that the monthly inspection of critical items in use on cranes (such as brakes, crane hooks, and ropes) was performed. The certification record must include the inspection date, the signature of the person who conducted the inspection, and the serial number (or other identifier) of the inspected crane. Employers must keep the certificate readily available. The certification record provides employers, employees, and OSHA compliance officers with assurance that critical items on cranes regulated by the Standard have been inspected, given some assurance that the equipment is in good operating condition, thereby preventing crane or rope failure during material handling. These records also provide the most efficient means for the compliance officers to determine that an employer is complying with the Standard.

• Rated Load Tests (paragraph (e)(2)). This provision requires employers to make available written reports of load-rating tests showing test procedures and confirming the adequacy of repairs or alterations, and to make readily available any rerating-test reports. These reports inform the employer, employees, and OSHA compliance officers of a crane's lifting limitations, and provide information to crane operators to prevent them from exceeding these limits and causing crane failure.

• Rope Inspections (paragraph (g)). Paragraph (g)(1) requires employers to thoroughly inspect any rope in use, and do so at least once a month. The authorized person conducting the inspection must observe any deterioration resulting in appreciable loss of original strength and determine whether or not the condition is hazardous. Before reusing a rope not in use for at least a month because the crane housing the rope is shutdown or in storage, paragraph (g)(2)(ii) specifies that employers must have an appointed or authorized person inspect the rope for all types of deterioration. Employers are to prepare a certification record for the inspections required by paragraph (g)(1) and (g)(2)(ii). These certification records are to include the inspection date, the signature of the person conducting the inspection, and the identifier for the inspected rope; paragraph (g)(1) states that employers must keep the certificates “on file where readily available,” while paragraph (g)(2)(ii) requires that certificates “be * * * kept readily available.” The certification records provide employers, employees, and OSHA compliance officers with assurance that the inspected ropes are in good condition.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirements specified by its Crawler, Locomotive, and Truck Cranes Standard (29 CFR 1910.180). The Agency will summarize the comments submitted in response to this notice, and will include this summary in its request to OMB to extend the approval of these information-collection requirements.

Type of Review: Extension of a currently approved information-collection requirement.

Title: Crawler, Locomotive, and Truck Cranes Standard (29 CFR 1910.180).

OMB Number: 1218-0221.

Affected Public: Business or other for-profit; not-for-profit institutions; Federal government; State, local, or tribal governments.

Number of Respondents: 20,000 cranes.

Frequency of Recordkeeping: On occasion; monthly; annually.

Average Time per Response: Varies from 15 minutes (.25 hour) to perform a crane inspection and to prepare, maintain, and disclose a written certificate for the inspection, to 30 minutes (.50 hour) to inspect a rope and to develop, maintain, and disclose a written certificate for the inspection to 1 hour to rate the capacity of a crane and make the appropriate record.

Total Annual Hours Requested: 174,040.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC on June 25, 2002.
John L. Henshaw,
Assistant Secretary of Labor.

[FR Doc. 02-16469 Filed 6-28-02; 8:45 am]

BILLING CODE 4510-26-M